DEPARTMENT OF ENERGY

Federal Energy Regulatory Commission

[Docket No. PH24-12-000]

Unison Energy, LLC; Tiger Infrastructure Partners Fund III AIV U LP; Notice Tolling 60-Day Period for Action To Allow for Further Consideration

To afford additional time for further consideration of the matters at issue in the above-captioned proceeding, the 60-day period for action is hereby tolled. See 18 CFR 366.4(b)(1) (2023).

Dated: September 6, 2024.
Debbie-Anne A. Reese,
Acting Secretary.

[FR Doc. 2024-20770 Filed 9-12-24; 8:45 am]

BILLING CODE 6717-01-P